DEPARTMENT OF THE INTERIOR

Fish and Wildlife Service

Information Collection Submitted to the Office of Management and Budget (OMB) for Approval under the Paperwork Reduction Act (PRA)

AGENCY: Fish and Wildlife Service, Interior.

ACTION: New information collection approval—the federal aid grant application booklet.

SUMMARY: The U.S. Fish and Wildlife Service (Service) submitted the collection of information requirement described below to the Office of Management and Budget (OMB) for approval under the provisions of the Paperwork Reduction Act (PRA). You may obtain copies of the collection requirement and related forms and explanatory material by contacting the Service's Information Collection Clearance Officer at the phone number listed below. The Service is soliciting comment and suggestions on the requirement as described below.

DATES: Consideration will be given to all comments received on or before January 12, 2001. OMB has up to 60 days to approve or disapprove information collections but may respond after 30 days. Therefore, to ensure maximum consideration, OMB should receive public comments by the above referenced date.

ADDRESSES: Interested parties should send comments and suggestions on the requirement to the Office of Information and Regulatory Affairs, Office of Management and Budget, Attn: Interior Desk Officer (1018-XXXX), New Executive Office Building, 725 17th Street, NW., Washington, DC 20503 and they should send a copy of the comments to: Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack@Hicks fws.gov E-mail.

SUPPLEMENTARY INFORMATION:

Title of Forms: Federal Aid Grant Application Booklet.

OMB Approval Number: OMB has not issued an approval number, the Service has applied for and will obtain approval prior to any information collection request described in this notice.

The Service has submitted to OMB a request to approve the information collection described in this notice for the Federal Aid Program. The Service is requesting a three year term of approval for this information collection. A previous 60 day notice was published on September 5, 2000 (FR Vol. 65, No. 172, 53737) requesting comment. That period expired on November 6, 2000.

Comments received included the following:

Comment 1. Limiting outreach and communications to activities for RBFF seems overly restrictive.

Response—We have redrafted that portion limiting outreach and communications to only RBFF, Federal Aid grant programs authorize outreach and communication activities by grantees.

Comment 2. The hourly burden for completing an Amendment to Grant Agreement is overstated, it should be two hours.

Response—We spoke with several Federal Aid managers who agreed with this comment so we changed the burden and lowered the total burden to reflect that change.

Comment 3. House Bill 3671 eliminated any outreach and communication activities.

Response—Changes required by The Fish and Wildlife Programs Improvement and National Wildlife Refuges System Centennial Act of 2000 have been incorporated in this notice and in the Federal Aid Grant Application Booklet.

Comment 4. Add “and related components such as habitat, harvest, or use.” to end of sentence on Surveys and Inventories to clarify.

Response—We added it.

Comment 5. Correct or clarify definition of RBFF outreach at the end of section 3.

Response—Changed to “Supports improved communication with anglers, boaters, and the general public.”

Comment 6. Wrong use of Grant Amendment form on page 13.

Response—Changed to “An Amendment to Grant Agreement (3-1591) is only required when changes in grant costs, period, or scope of work must be made.”

Comment 7. In-Kind match and volunteer services area is confusing.

Response—Changed to “In-kind match is an agency noncash contribution such as volunteer services, land, equipment, supplies * * * etc.”

Comment 7. Add “X” to land acquisition and operations and maintenance on the matrix for Section 7 work.

Response—Added the X's to the matrix.

Comment 8. Key personnel section under research grants is hard to understand.

Response—Re-drafted in plain language.

Comment 9. Suggested some wording changes to our program descriptions and eligible activities.

Response—Redrafted these portions of the booklet to accommodate plain language.

This notice provides another 30 day period in which to comment on the information collection described.

An agency may not conduct or sponsor, and a person is not required to respond to, a collection of information unless it displays a currently valid OMB control number. The OMB control number for this information collection has not been issued yet.

Description and Use: The Service administers several grant programs authorized by the Federal Aid in Wildlife Restoration Act, the Federal Aid in Sport Fish Restoration Act, the Anadromous Fish Conservation Act, the Endangered Species Act, the Clean Vessel Act, the Sportfishing and Boating Safety Act, the Coastal Wetlands Planning, Protection and Restoration Act, and others. The Service uses the information collected to make grant awards to States and others within these grant programs. This includes determining if the proposed work and cost is reasonable, the cost sharing is consistent with the applicable program statutes, and other vital information collected through proposals submitted by grant applicants. The State or other grantee uses the booklet as a guide for writing complete proposals including; work proposed, providing specific budget information, identifying proposed cost sharing, addressing any compliance issues, and identifying partners if any. The information collected through this document also satisfy special requirements for various approvals for National Environment Policy Act, National Historic Preservation Act, and other Acts pertaining to grants management in the Federal government. Grant applicants provide the information requested in the Federal Aid Grant Application booklet in order to receive benefits in the form of grants for purposes outlined in the applicable law. The Service uses the Federal Aid Grant Application Booklet to request complete information needed to determine the eligibility, cost, scope, and appropriateness of the grant applied for. This information collection is intended to apply to both single grants and grants issued under the planning options outlined in the applicable Acts. This booklet is designed to cause the minimum impact in the form of hourly burden on grant applicants and still get all the required information.

Supplemental Information: The service has submitted the following information collection requirements to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Generally annually.

Description of Respondents: State Government, territorial (the Commonwealth of Puerto Rico, the District of Columbia, the Commonwealth of the Northern Mariana Islands, Guam, the Virgin Islands, and American Samoa), local governments, and others receiving grant funds.

Completion Time and Annual Response and Burden Estimate:

Form name | Completion time per application [hours] | Annual response in narrative format | Annual burden [hours]
Grant application booklet | 80 | 3,500 | 280,000
Amendment to grant agreement | 2 | 1,750 | 3,500
Totals |  | 5,250 | 283,500

Federal Aid Grant Application Booklet

OMB Control Number 1018-XXXX

Expires xx/xx/xxxx

Part 1—(Cover)

Department of the Interior

U.S. Fish and Wildlife Service

Division of Federal Aid

Grant Programs

Authorized under the following Acts:

Federal Aid in Sport Fish Restoration Act (16 U.S.C. 777-7771)

Federal Aid in Wildlife Restoration Act (16 U.S.C. 669-669i)

Partnerships for Wildlife Act (16 U.S.C. 3741)

Coastal Wetlands Planning, Protection and Restoration Act (16 U.S.C. 3954)

Endangered Species Act, Sec 6 (h) (16 U.S.C. 1361)

Clean Vessel Act of 1992 (16 U.S.C. 777)

Covering the following types of projects and grants:

Sport Fish Restoration Projects

Wildlife Restoration Projects

Coastal Wetland Restoration

Clean Vessel Pumpout Projects

Boating Infrastructure

Partnerships for Wildlife

Endangered Species, Sec 6 (h)

Land Acquisition

Coordination

Strategic Planning

Comprehensive Management

Surveys and Inventories

Training and Education

Facilities Development

Construction

Operations and Maintenance

Development

Research

Single and Multi-Project

Habitat and Population Management

Hunter and Aquatic Education

Outreach and Communications

Part 2—(inside front cover)

Draft Information Collection Statement

Information Collection Statement: In accordance with the Paperwork Reduction Act (44 U.S.C. 3501) please note the following information. This information collection is authorized by the Federal Aid in Sport Fish Restoration Act (16 U.S.C. 777-7771), Federal Aid in Wildlife Restoration Act (16 U.S.C. 669-669i), Partnerships for Wildlife Act (16 U.S.C. 3741), and the Coastal Wetlands Planning, Protection and Restoration Act (16 U.S.C. 3954). This information collection covers the following types of grant programs: Sport Fish Restoration, Wildlife Restoration, Coastal Wetland Restoration, Clean Vessel, Boating Infrastructure, Partnerships for Wildlife and Endangered Species [See 6(h)]. We are collecting this information relevant to the eligibility, substantially, relative value, and budget information from applicants in order to make awards of grants under these programs. We are collecting financial and performance information to track cost and accomplishments of these grant programs. Completion of these application and reporting requirements will involve a paperwork burden of approximately 80 hours per grant proposal and two hours per grant amendment, this does not include any burden hours previously approved by OMB for standard or Fish and Wildlife Service forms. Your response to this information collection is voluntary, but necessary to receive benefits in the form of a Grant, and does not carry any premise of confidentiality. An agency may not conduct or sponsor; and a person is not required to respond to, a collection of information unless it displays a currently valid OMB control number. This information collection has been approved by OMB and assigned control number 1018-XXXX. The public is invited to submit comments on the accuracy of the estimated average burden hours for application preparation, and to suggest ways in which the burden may be reduced. Comments may be submitted to: Information Collection Clearance Officer, Mail Stop 222 ARLSQ, U.S. Fish and Wildlife Service, Washington, DC 20240.

Part 3

Who is eligible to participate in these grant programs and for what purpose? We work with several programs, they are listed below, along with their individual purpose and eligible recipients.

Federal Aid in Wildlife Restoration Programs: Any State fish and wildlife agency of the 50 States and the District of Columbia, the Commonwealth of Puerto Rico, the Commonwealth of the Northern Mariana Islands, Guam, the United States Virgin Island, and the American Samoa. The purpose of the Wildlife Restoration grants must be for restoration, conservation, management, and enhancement of wild birds and wild mammals, and providing for public use and benefit from these resources. Eligible activities include: educating responsible hunters, shooters and archers in skills, knowledge, and attitudes regarding the safety in firearms, public target ranges development, operations and maintenance either archery of firearm.

The Sport Fish Restoration Program: Any State fish and wildlife agency of the 50 States and the District of Columbia, the Commonwealth of Puerto Rico, the Commonwealth of the Northern Mariana Islands, Guam, the United States Virgin Islands, and American Samoa. Grants must be for the restoration, conservation, management, and enhancement of sport fish, and provision for public use of and benefits from these resources, such as boating access. Sport fish, by definition, are limited to aquatic, gill breathing, vertebrate animals bearing paired fins, and having material value for sport or recreation. Also eligible are grants which address the enhancement of the public's understanding of water resources and aquatic life forms, and the development of responsible attitudes and ethics towards the aquatic environment.

Coastal Wetland Restoration projects: Any State agency designated by the Governor of a coastal State to participate on behalf of the State is eligible. A coastal State is any State bordering on the Atlantic, the Pacific, or the Arctic Ocean, the Gulf of Mexico, Long Island Sound, or one or more of the Great Lakes. The Commonwealth of Puerto Rico, the United States Virgin Islands, Guam, the Commonwealth of the Northern Mariana Islands, the Trust Territory of the Pacific Islands, and American Samoa are also eligible. Coastal wetlands conservation grants must be for the long-term conservation of lands and waters, hydrology, water quality and fish and wildlife that depend upon these lands and waters. For the Coastal Wetlands Conservation Program, grant work must be in the first tier of counties along the coast of any State except Louisiana.

Clean Vessel projects: Any State fish and wildlife agency of the fifty States and the Districts of Columbia, the Commonwealth of Puerto Rico, the Commonwealth of the Northern Mariana Islands, Guam, the United States Virgin Islands, and American Samoa. Grants must be for the surveying and planning for installing pumpout/dump stations, and to fund the construction and renovation or maintenance of pumpout/dump stations to be used by recreational vessels, for the purpose of preventing recreational boat sewage from entering U.S. waters. Educational activities are also eligible for funding.

Boating Infrastructure: Any State fish and wildlife agency of the 50 States as designated by the State government and the District of Columbia, the Commonwealth of Puerto Rico, the Commonwealth of the Northern Mariana Islands, Guam, the United States Virgin Islands, and American Samoa. The purpose of the Boating Infrastructure Grant Program is to provide funds to States for the development and maintenance of facilities for transient nontrailerable recreational vessels.

Partnerships for Wildlife: Any State fish and wildlife agency of the 50 States and the District of Columbia, the Commonwealth of Puerto Rico, the Commonwealth of the Northern Mariana Islands, Guam, the United States Virgin Islands, and American Samoa in partnership with third parties. The purpose of these projects must be to: Inventory fish and wildlife species; determine and monitor the size, range, and distribution of populations of fish and wildlife species, identify the extent, condition, and location of the significant habitats of fish and wildlife species; identify the significant problems that may adversely affect fish and wildlife species and their significant habitats; take actions to conserve fish and wildlife species and their habitats; or take action which the principal purpose is to provide opportunities for the public to use and enjoy fish and wildlife through nonconsumptive activities. This program applies to any wild members of the animal kingdom that are in an unconfined state, except animals that are: (1) taken for recreation, fur, or food; (2) Federally listed as endangered or threatened species under the Endangered Species Act; or (3) marine mammals defined by the Marine Mammal Protection Act.

Endangered Species Section 6 Grants: Any State agency that has a cooperative agreement with the Secretary of the Interior, as well as the Commonwealth of Puerto Rico; the Commonwealth of the Northern Mariana Islands; Guam; the United States Virgin Islands; and American Samoa. The purpose of the Endangered Species Section 6 Grants program is to provide Federal financial assistance to any State, through its appropriate agency, which has entered into a cooperative agreement to assist in the development of programs for the conservation of endangered and threatened species. Currently, all 50 States, DC and some insular territories have such an agreement. Eligible activities include all types of projects (including land acquisition) with the potential of restoring a threatened or endangered species, monitoring or a candidate species or monitoring of a recovered species.

Grant Programs

Wildlife Restoration Act

• Restore and manage wild birds and wild mammals

• Provide for public use of and access to wild birds and wild mammals

• Provide hunter education

• Funded by hunters and recreational shooters

Sport Fish Restoration Act

• Restore and manage sport fish

• Provide for public use of and access to sport fish

• Provide aquatic education

• Funded by anglers and recreational boaters

Coastal Wetlands Planning, Protection and Restoration Act

• Acquire coastal wetlands

• Restore or enhance coastal wetlands' ecosystems

• Provide long-term conservation of coastal lands and waters

• Funded by Sport Fish Restoration account

Endangered Species Act

• Acquisition, enhancement and protection of habitat

• Recovery and conservation of species

• Surveys and research

• Funded under Section 6 of the Act through Congressional appropriation

Partnerships for Wildlife Act

• Inventory and conserve nongame species

• Provide watchable wildlife recreational and educational opportunities

• Identify and manage species and their habitats

• Funded by Congressional appropriations and State and private partners

Clean Vessel Act

• Survey needs and make plans

• Construct and maintain pumpouts and dump stations

• Educate boaters on use of facilities and impacts of overboard discharge

• Funded by Sport Fish Restoration account

Grant Types Eligible for Funding

• Coordination—supports administrative activities of Federal Aid Program

• Strategic Plans and Comprehensive Management Systems (CMS)

—permits implementation of grant funding under either of two funding options:

(1) strategic plan for sport fish and/or wildlife resource management or

(2) CMS for all or part of a State agency's resource management

—allows for funding a grant to develop either of the two funding options above

• Land Acquisition—The acquisition of real property for

—protecting or maintaining habitat conditions for fish or wildlife species;

—developing or improving habitat conditions to enhance carrying capacity;

—providing public access for the use of fish and wildlife resources; and

—constructing buildings or other structures needed by the State to meet program needs.

• Motorboat Access Facilities—Activities necessary for the purpose of accommodating sport anglers using motor boats propelled by internal combustion engines including:

—acquisition, development, renovation and improvement projects;

—multipurpose projects designed to provide benefits for sport anglers using motor boats and other compatible recreation to the extent of the prorated share of the facility cost attributable to each purpose;

—undertakings to compensate for or mitigate recreational or resource losses caused by the boating access improvement, and that are necessary to secure permits or approval of the boating facility;

—research, surveys, planning, appraisals, permits, public involvement or other preliminary requirements to evaluate, design, program, or schedule future boating access improvements are allowable as an on-going development or access planning project;

—operation and maintenance of facilities acquired or constructed with Federal Aid funds or by other funds is eligible when such facilities are necessary for carrying out an approved Federal Aid project; or

—channel improvements, vegetation clearance, navigation aids and other modifications to expedite boating to open water from launching facilities.

• Clean Vessel Act Facilities—Activities necessary for activities addressing the need for facilities enabling recreational boaters to dispose of boater sewage in an environmentally sound manner, including:

—identification of recreational boater sewage disposal needs and plans for addressing identified needs;

—construction, renovation and maintenance of pumpout facilities, and;

—education plans to increase boater awareness of related opportunities and environmental impacts.

• Operations and Maintenance—Activities necessary for the functioning of a facility to produce desired results, and for the upkeep of a facility to allow the facility to function including routine recurring custodial maintenance such as housekeeping and minor repairs as well as the supplies, materials, and tools necessary to carry out the work.

• Development Grants for:

—Population Management—supports restoration and management of sport fish and wildlife populations through stocking or transplant efforts

—Habitat Management—supports creation and improvement of habitat for sport fish and wildlife populations

—Facilities Construction—supports activities providing public access to or enhancing public use of wildlife or sport fish resources; and supports development of facilities for educational or administrative purposes that further federal aid objectives

• Research—Activities necessary for:

—providing solutions to problems involving fish or wildlife resources; or

—determining factors affecting the demands or needs for fish and wildlife resources.

• Surveys and Inventories—Activities necessary for:

—determining the abundance, characteristics, or condition of fish or wildlife populations;

—determining the status or condition of habitats;

—determining current use or demands for fish or wildlife resources and information about the resource users; or

—monitoring environmental conditions relating to wildlife and sport fish.

• Hunter and Aquatic Education

—educates hunters to be responsible

—provides education or training on fishing skills and aquatic resources

—supports construction of education facilities

—supports construction of shooting ranges

• Technical Guidance—Activities necessary for

—improving environmental conditions affecting fish or wildlife resources;

—protecting and/or creating fish or wildlife habitat; or

—managing fish and wildlife populations, areas, and habitats for increased production or for public benefits from fish or wildlife resources.

• Outreach and Communications (Recreational Boating and Fishing Foundation RBFF)—improve communications with anglers, boaters, and the general public regarding angling and boating opportunities, to reduce barriers to participation in these activities, to advance adoption of sound fishing and boating practices, to promote conservation and the responsible use of the Nation's aquatic resources, and to further safety in fishing and boating.

• Outreach—State efforts to increase public awareness and understanding of Federal Aid Programs, accomplishments, and the user-pay/user-benefit approach. The Service encourages outreach activities that provide opportunities for public use, understanding, and awareness of fish and wildlife restoration.

Part 4

A. Instructions

(1) Agencies shall use the following standard application forms when applying for Federal Aid Grants. These forms, in PDF fillable/printable format, can be found at the Federal Aid Training Program webpage at http://www.nctc.fws.gov/fedaid/toolkit/toolkit.pdf. At your request, the Regional Office will mail a diskette or CD with fillable forms in PDF format for your use on any personal computer and printer.

Application

SF-424 Face Sheet, and as appropriate:

SF-424A Budget Information (Non-Construction)

SF-424B Standard Assurances (Non-Construction)

SF-424C Budget Information (Construction)

SF-424D Standard Assurances (Construction)

Financial

SF-269 Financial Status Report

SF-270 Request for Reimbursement

Lobbying

SF-LLL Disclosure for Lobbying Activities

Other Assurances

DI-2010 Department of Interior Assurances form

National Environmental Policy Act Compliance (NEPA)

Endangered Species Act Section 7 Compliance (ESA)

National Historic Preservation Act Compliance (NHPA)

Suspension and Debarment Certification

Drug Free Environment Certification

E.O. 11988, Floodplain Management

E.O. 11990, Protection of Wetlands

E.O. 12898, Federal Actions to Protect Environmental Justice in Minority Populations and Low Income Population (Environmental Justice)

American with Disabilities Act (ADA) and the following U.S. Fish and Wildlife Service forms as applicable:

3-1552 Grant Agreement (OMB Approval 1018-0049)

3-1591 Amendment to Grant Agreement (OMB Approval 1018-0049)

Complete the SF-424 face sheet and the appropriate parts A or C and SF-424B assurances for nonconstruction projects or SF-424D assurances for construction projects.

A Grant Agreement (3-1552) form is required for all grants. Complete and have it signed by an Agency Official authorized to do so and include it with all grant proposal submissions. An Amendment to Grant Agreement (3-1591) is only required when changes in grant cost, period, or scope of work must be made.

In-kind match is an agency noncash contribution such as volunteer services, land, equipment, supplies * * * etc. There are specific requirements to document the value of this on the SF-424, in budget/cost info, and in performance reports. See 43 CFR 12.64 for specific guidance on in-kind match, especially how to calculate the value of volunteer services used as in-kind. There are also specific requirements in 43 CFR 12.64 for time accounting and documentation of volunteer time.

Part 5

A preapplication shall be used for all construction, land acquisition and land development projects or programs when the need for Federal funding exceeds $100,000, unless the Federal agency determines that a preapplication is not needed. A preapplication is used to:

(a) Establish communication between the agency and the applicant,

(b) Determine the applicant's eligibility,

(c) Determine how well the project can compete with similar projects from others, and

(d) Discourage any proposals that have little or no change for Federal funding before applicants incur significant costs in preparing detailed applications.

Budgets

Applicants shall use the appropriate Budget Information and Standard Assurances on the SF-424 for either construction or non-construction projects. They shall use the construction version when the major purpose of the project or program is construction, land acquisition or land development.

Budgets shall provide an estimated total by project objective and should match the objectives described in the proposal (see instructions for proposals below). Budget estimates are entered on the Grant Agreement 3-1552 or the Amendment to Grant Agreement 3-1591, the obligating documents.

Attach a schedule listing projects and dollar amounts within a grant. The total from the schedule should match the total on the Grant Agreement or Amendment to Grant Agreement.

Example:

(Name of Grant) Grant XX FY-XX

Grant Number XX

Start Date_____

End Date_____

Project | Estimated cost
A O&M (WR) | 600,000
B Habitat Improvement (SFR) | 250,000
C Construction (BA) | 20,000
Total | ¹ 870,000
¹ This total goes to Grant Agreement or Amendment.
WR = Regular Wildlife Restoration.
SFR = Regular Sport Fish Restoration.
BA = SFR, Boating Access.

Grant Proposals

Applicants should include a program narrative statement for each separate project under a grant proposal which is based on the following instructions:

(a) Objectives and need for assistance. Pinpoint any relevant physical, economic, social, financial, institutional, or other problems requiring a solution. Demonstrate the need for the assistance and state the principal and any subordinate objectives of the project. Supporting documentation or other testimonies from concerned interests other than the applicant may be used. Any relevant data based on planning studies should be included, footnoted, or referenced.

(b) Results or benefits expected. Identify costs and benefits to be derived. For example, show how the facility will be used. For land acquisition or development projects, explain how the project will benefit the public. For all projects list benefits and to whom or what resource, and quantify them in a standard measure such as dollars, acres, miles * * * etc.

(c) Approach. Outline a plan of action pertaining to the scope and detail how the proposed work will be accomplished for each assistance program. Cite factors which might accelerate or decelerate the work and reasons for taking this approach as opposed to others. Describe any unusual features of the project, such as design or technological innovations, reductions in cost or time, or extraordinary social and community involvements. Provide for each assistance program quantitative projections of the accomplishments to be achieved and target dates for completion, if possible. When accomplishments cannot be quantified, list the activities in chronological order to show the schedule of accomplishments and target expected completion dates. Identify the kinds of data to be collected and maintained, and discuss the criteria to be used to evaluate the results and success of the project. Explain the methodology that will be used to determine if the needs identified and discussed are being met and if the results and benefits identified are being achieved. List each organization, cooperator, consultant, or other key individuals who will work on the project along with a short description of the nature of their effort or contribution.

(d) Geographic location. Give a precise location of project and area to be served by the proposed project. Maps or other graphic aids may be attached. Add latitude and longitude where possible, this is required for all site specific development, such as boating access, construction, or land acquisition projects.

(e) If applicable, provide the following information.

(1) For research and demonstration assistance requests list the name, training and background for key personnel engaged in the project.

(2) Describe the relationship between this project and other work planned, anticipated, or underway under Federal assistance.

(3) Explain the reason for all requests for supplemental assistance and justify the need for additional funding. Discuss accomplishments to date and list in chronological order a schedule of accomplishments, progress or milestones anticipated with the new funding request. If there have been significant changes in the project objectives, location, approach or time delays, explain and justify.

(4) For other requests for changes, or amendments, explain the reason for the change(s). If the scope of objectives have changed or an extension of time is necessary, explain the circumstances and justify. If the total budget has been exceeded or if the individual budget items have changes more than the prescribed limits, explain and justify the change and its effect on the project.

(f) For the following types of programs, the Regional Office may request the following additional information:

Additionally for:

1. Federal Aid in Wildlife Restoration: For Hunter Education grants, If the work includes the construction of training facilities such as ranges, provide a description of each facility by type, capacity, and cost.

2. Boating Infrastructure Projects: How does this project benefit the public and how is that benefit measured, the BIG programs requires that applicants submit a Schedule of Fees, providing the fees for public use of facilities constructed with BIG funds; proposals will need to respond to the ranking criteria in § 50 CFR 86.60.

3. Partnerships for Wildlife Projects: Describe the partnership involved in this project and what their relative contribution to the partnership is;

4. All lands acquisition projects, regardless of program must include:

In “Approach,” describe the present ownership and habitat type of the real property to be acquired, and how the area will be managed. Include a listing of the lands, estimated costs, and the legal rights to be acquired (i.e. fee title, easements, or other long-term acquisition.) Also provide:

—a legal description of the real property to be acquired;

—an Appraisal prepared by a State-certified appraiser;

—a Review Appraisal prepared by a State-certified appraiser;

—a Purchase Option or Agreement; and

—a Statement of Just Compensation.

5. Section 6 of the Endangered Species Act: Prerequisites for participation in grants under Sec. 6 are that the State establishes and maintains an adequate and active program for conservation of endangered and threatened species [50 CFR 81.2], and has entered into a Cooperative Agreement with the Secretary of the Interior [50 CFR 81.3] which must be renewed annually. Federal payments shall not exceed 75 percent of the program costs, except when two or more states having a common interest in one or more endangered or threatened species and may enter jointly into an agreement with the Secretary, and thereby increase the Federal share to 90% [50 CFR 81.8].

6. Surveys and Inventory: Address each of the following factors.

a. Adequacy: Are the data answering the decision-makers' questions? The review should evaluate whether the data acquired from the survey are actually meeting the stated purpose. Analysis of trend data will identify whether data being collected are sufficient in answering the agency's management questions or whether data gaps exist. Timeliness of data collection, analysis and availability is important.

b. Necessity: Are the data used by decision makers? In determining the necessity of a particular survey, consideration should be given to what data are actually being collected and their use in management decisions. Survey utility should be considered in the context of the agency's data needs, given necessary prioritization and allocation of staff and monetary resources.

c. Reliability: Are the decision makers confident in the data? Survey design should be based on sound science and key results should be statistically reliable. A review of the literature will show whether the methodology is still current or if there are other state-of-the-art techniques that might prove more suitable. Validity of the survey approach and whether assumptions are met should be considered as well as whether sample sizes are sufficient to achieve desired levels of precision.

d. Efficiency: Are the data being collected in a cost efficient manner? Data collection is costly, both in staff time and dollars expended. The cost of data collection and analysis should be assessed relative to applicability and use of the data by decision makers.

7. Habitat Management—In “Approach,” include the number of acres/hectares to be created or improved and the methods or techniques to be employed. If the work proposed involves the construction, enlargement, or rehabilitation of dams subject to Federal design requirements, provide evidence that an engineer qualified in the design and construction of dams has reviewed the design and specifications. For construction costing more than $100,000, include written assurance that a qualified engineer will approve plans and specifications, approve the feasibility determination, and supervise the construction.

8. Facilities Construction—In “Approach” provide a description of the capacity, type of construction, etc. If specifically requested, include plans and specifications. If applicable, describe third party arrangements for operation and/or maintenance of the facility, including how revenue from any user fees will be handled. For construction costing more than $100,000, include written assurance that a qualified engineer will approve engineering plans and specifications, approve the feasibility determination, and supervise the construction.

9. Research—In “Need,” include a brief discussion of the literature review relative to the problem. In “Approach,” describe how the research will be carried out, including the method(s) to be employed and the schedule to be followed. If the work (or major portion of the work) will be performed under an agreement with a third party, such as a university, identify the performer. Also include the name of the principal investigator.

10. All projects must meet all applicable NEPA, Endangered Species Act (Section 7), and National Historic Preservation Act requirements. Information will be collected as mandated under those Acts to satisfy compliance requirements. (This burden is included in the 80 hour estimate per application.)

Sportfish and Wildlife Grant—Compliance Issue Matrix

The X's indicate compliance issues that may need to be considered when planning a specific type of grant.

Compliance issue— | NEPA | NHPA | ESA | E.O. 11990 | E.O. 11988 | FPPA | ADA | COE | Exotic animals | AWA | Invassive species | Environmental justice | Coastal zone | Costal barriers
Coordination | X |  |  |  |  |  | X |  |  |  |  |  |  |
Strategic plans and comprehensive management systems | X | X | X | X | X | X | X | X | X | X | X | X | X | X
Land acquisition | X | X | X | X | X | X | X | X |  |  | X | X | X | X
Operation and maintenance | X | X | X | X | X | X | X | X |  |  | X | X | X |
Fish and wildlife population management | X |  | X |  |  |  |  |  | X | X | X | X |  |
Habitat management | X | X | X | X | X | X | X | X | X |  | X | X |  | X
Facilities construction | X | X | X | X | X | X | X | X |  |  |  | X | X | X
Research | X |  | X |  |  |  |  |  | X | X |  | X |  |
Surveys and inventories | X |  | X |  |  |  |  |  |  | X |  | X |  |
Hunter and aquatic education | X | X | X |  |  |  | X |  |  |  |  | X |  |
Technical guidance | X |  |  |  |  |  |  |  |  |  |  | X |  |
Motorboat access facilities | X | X | X | X | X | X | X | X |  |  |  | X | X | X
Clean Vessel Act facilities | X | X | X | X | X | X | X | X |  |  |  | X | X | X
Boating infrastructure | X | X | X | X | X | X | X | X |  |  |  | X | X | X
Outreach and communication | X |  |  |  |  |  | X |  |  |  |  | X |  |

Part 6—Financial and Accomplishment and Financial Reporting

Accomplishment and Performance

Accomplishment and Performance reports shall compare the proposed work, approved as part of the Grant Agreement, with the actual work accomplished, any deviation, including, but not limited to, cost, time, quality, or quantity shall be reported.

Financial Reports

Grantees shall use the SF-269 series documents provided by our Regional Offices, on our website, diskette or CD.

Payment

How do grantees get paid? Payments are made only to grantee officials authorized to enter into grant agreements and request funds. Payments to grantees are made for the Federal share of allowable costs incurred by the grantee in accomplishing approved grants. All payments are subject to final determination of allowability based on audit. a. Requests for payments by check are submitted on Standard Form SF-270, Request for Reimbursement. Grantees must submit a SF-270 and supporting documentation to the FWS Project Leader, who will review, approve, and forward to USFWS Finance for processing the payment.

Note: Grantees will be told at the time the grant is issued if they are a regular or special grantee. b. For regular grants, payments within 24 hours by Electronic Fund Transfer (EFT) from the grantor are accomplished by completing a SF-1199A Direct Deposit Sign Up Form and forwarding it6 to Health and Human Services (address at FWS Regional Offices) for authorization in the payment management system SMARTLINK. Request for payment are submitted by grantee to SMARTLINK, payment is monitored/authorized by the FWS Regional Office.

c. For special grants, payments within 24 hours by Electronic Fund Transfer (EFT) from the grantor are accomplished by completing a SF-1199A Director Deposit Sign Up Form and forwarding it to Health and Human Services (address at FWS Regional Offices) for authorization in the payment management system SMARTLINK Funds are then requested by submitting through FAX or E-mail an invoice/request for review and approval by the FWS project leader. After approval is received, the grantee may request funds electronically through SMARTLINK.

PART 7

The U.S. Fish and Wildlife Service (Service), Division of Federal Aid awards grants to successful applicants from States and certain other entities to benefit fish and wildlife resources. Applications may be mailed to the following addresses for review by the Regional Office serving your need.

Region 1—AS-CA-GU-HI-ID-NV-OR-MP-WA | U.S. Fish and Wildlife Service, 911 NE 11th Avenue, Portland, OR 97232-4181 | Comm: (503) 231-6996; FAX: (503- 231-6128.
Region 2—AZ-NM-OK-TX. | U.S. Fish and Wildlife Service, P.O. Box 1306, Albuquerque, NM 87103-1306 or 625 Silver SW., Suite 325, Albuquerque, NM 87102 | Comm: (505) 248-7450; FAX: (505) 248-7471.
Region 3—IA-IL-MI-MN-MO-OH-WI | U.S. Fish and Wildlife Service, 1 Federal Drive, Ft. Snelling, MN 55111-4056 | Comm: (612) 713-5130; FAX: (612) 713-5290.
Region 4—AL-AR-FL-GA-KY-LA-MS-NC-PR-SC-TN-VI | U.S. Fish and Wildlife Service, 1875 Century Blvd., Suite 324, Atlanta, GA 30345 | Comm: (404) 679-4159; FAX: (404) 679-4160.
Region 5—CT-DC-DE-MA-MD-ME-NH-NJ-NY-RI-VA-VT-WV-PA | U.S. Fish and Wildlife Service, 300 Westgate Center Drive, Hadley, MA 01035-9589 | Comm: (413) 253-8508; FAX: (413) 253-8487.
Region 6—CO-KS-MT-ND-NE-SD-UT-WY | U.S. Fish and Wildlife Service, P.O. Box 25486, Denver Federal Center, Denver, CO 80225 or Lake Plaza North Blvd., 134 Union Blvd., 4th Floor, Lakewood, CO 80228 | Comm: (303) 236-7392; FAX: (303) 236-8192.
Region 7—AK | U.S. Fish and Wildlife Service, 1011 East Tudor Road, Anchorage, AK 99503 | Comm: (907) 786-3435; FAX: (907) 786-3575.
Washington, DC, National issues and program coordination | U.S. Fish and Wildlife Service, 4401 N. Fairfax Drive, Suite 140, Arlington, VA 22203 | Comm: (703) 358-2156; FAX: (703) 358-1837.

In accordance with the Paperwork Reduction Act of 1995 (44 U.S.C. 3501) and the Privacy Act of 1974 (U.S.C. 552), please be advised that:

The gathering of information from applicants to gain benefits is authorized under the Federal Aid in Sport Fish Restoration Act (16 U.S.C. 777-777k) and the Federal Aid in Wildlife Restoration Act (16 U.S.C. 669-669i). Information from this form will be used to formalize and execute Grant Agreements and Amendment to Grant Agreements issued under these and other Acts. Your participation in completing this information collection is required to obtain benefits. Once submitted this data becomes public information and is not protected under the Privacy Act. The public reporting burden for this information is estimated at 80 hours per grant and two hours per amendment to a grant, including time for gathering information, completing narratives, reviewing and obtaining signature. Direct comments to the Service Infiroamtion collection Clearance Officer, 1018-XXXX, U.S. Fish and Wildlife Service, MS 222-ARLSQ; 1849 C Street NW., Washington, DC 20240.

An agency may not conduct and a person is not required to complete a collection of information unless a currently valid OMB control number is displayed.

Version 8/2000.

Dated: November 17, 2000.
Rebecca A. Mullin,
U.S. Fish and Wildlife Service Information Collection Clearance Officer.

[FR Doc. 00-31509 Filed 12-12-00; 8:45 am]

BILLING CODE 4310-55-M